DEPARTMENT OF STATE

[Public Notice 10451]

60-Day Notice of Proposed Information Collection: Petition To Classify Special Immigrant Under INA 203(b)(4) as Employee or Former Employee of the U.S. Government Abroad

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to August 27, 2018.

ADDRESSES: You may submit comments by any of the following methods:

• Web: Persons with access to the internet may comment on this notice by going to www.Regulations.gov. You can search for the document by entering “Docket Number: DOS-2018-0026” in the Search field. Then click the “Comment Now” button and complete the comment form.

• Email: PRA_BurdenComments@state.gov.

You must include the DS form number (if applicable), information collection title, and the OMB control number in any correspondence.

SUPPLEMENTARY INFORMATION:

• Title of Information Collection: Petition to Classify Special Immigrant Under INA 203(b)(4) as Employee or Former Employee of the U.S. Government Abroad.

• OMB Control Number: 1405-0082.

• Type of Request: Extension of a Currently Approved Collection.

• Originating Office: CA/VO/L/R.

• Form Number: DS-1884.

• Respondents: Aliens petitioning for immigrant visas under INA 203(b)(4) as a special immigrant described in INA section 101(a)(27)(D).

• Estimated Number of Respondents: 75.

• Estimated Number of Responses: 75.

• Average Time per Response: 10 minutes.

• Total Estimated Burden Time: 12.5 hours.

• Frequency: Once per petition.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

DS-1884 solicits information from petitioners claiming employment-based immigrant visa preference under section 203(b)(4) of the Immigration and Nationality Act on the basis of qualification as a special immigrant described in section 101(a)(27)(D) of the Immigration and Nationality Act. A petitioner may file the DS-1884 petition within one year of notification by the Department of State that the Secretary has approved a recommendation that such special immigrant status be accorded to the alien. DS-1884 solicits information that will assist the consular officer in ensuring that the petitioner is statutorily qualified to receive such status, including meeting the years of service and exceptional service requirements.

Methodology

The form can be obtained from posts abroad or through the Department's website. The application available on the Department's website allows an applicant to complete the application electronically and then print the application and submit it to post.

Edward J Ramotowski,
Deputy Assistant Secretary, Bureau of Consular Affairs, Department of State.

[FR Doc. 2018-13641 Filed 6-25-18; 8:45 am]

BILLING CODE 4710-06-P